DEPARTMENT OF DEFENSE

Department of the Army

Notice of Availability of a Draft Programmatic Environmental Assessment for the Energy Efficient Rigid Wall Module and the Expeditionary Platoon Life Support Module

AGENCY: Department of the Army, DoD.

ACTION: Notice of availability and request for comments.

SUMMARY: The United States (U.S.) Army announces the availability of a draft programmatic environmental assessment (PEA) for the implementation of two Force Provider containerized basecamp systems: the Energy Efficient Rigid Wall Module (E2RWM) and the Expeditionary Platoon Life Support Module (EPLSM). The draft PEA analyzes the potential environmental impacts associated with the design, production, testing, training, fielding, demilitarization, and disposal of the E2RWM and EPLSM. This notice of availability (NOA) announces the start of the public review and comment period. After the U.S. Army addresses public comments submitted during the review period, a final PEA will be published. The PEA will inform the U.S. Army's decision regarding the deployment and use of the Force Provider systems.

DATES: Comments must be received 30 Days After Publication in the Federal Register of this NOA to be considered as part of the review process for this proposed action.

ADDRESSES: The draft PEA can be found on the Program Executive Office, Combat Support & Combat Service Support PdM FSS website at: https://www.peocscss.army.mil/assets/Draft%20Programmatic%20Environmental%20Assessment%20for%20the%20Energy%20Efficient%20Rigid%20Wall%20Module%20and%20the%20Expeditionary%20Platoon%20Life%20Support%20Module.pdf

FOR FURTHER INFORMATION CONTACT: Ryan Bulger, 15 General Greene Avenue, Natick, MA 01760-5052, at ryan.j.bulger2.civ@army.mil or by phone at: 508-206-2890.

SUPPLEMENTARY INFORMATION:

Proposed Action: The draft PEA analyzes the Proposed Action, which is to implement the Force Provider E2RWM and EPLSM systems where needed to support various Army missions. Force Provider systems provide a modular, containerized base camp for personnel in the field, that can be quickly assembled to support short- and long-term missions. Force Provider modules and support systems have been used to support Army operations in places like Afghanistan, Kyrgyzstan, Uzbekistan, Iraq, and Kuwait, and to support foreign militaries. Within the U.S., Force Provider modules have been used to support natural disaster response and personnel training exercises. The draft PEA also analyzed the No Action alternative.

The Army has prepared this analysis as a broad Program-wide evaluation of the E2RWM and EPLSM systems. As a programmatic analysis, it is intended to streamline coordination and environmental analysis required for site-specific actions in the future. When a decision is made to deploy at a particular location, the Army would conduct follow-on, site-specific environmental analysis as required.

Availability of the draft PEA: The draft PEA and associated information are available on the Program Executive Office, Combat Support & Combat Service Support PdM FSS website at: https://www.peocscss.army.mil/assets/Draft%20Programmatic%20Environmental%20Assessment%20for%20the%20Energy%20Efficient%20Rigid%20Wall%20Module%20and%20the%20Expeditionary%20Platoon%20Life%20Support%20Module.pdf

Information on Submitting Comments

The U.S. Army discourages anonymous comments and requests that your comment include your name and address. You should be aware that your entire comment, including your name, address, and any other personally identifiable information that you include, may be made publicly available. All comments from identified individuals, businesses, and organizations will be available for public viewing on regulations.gov. Note that the Army will make available for public inspection all comments, in their entirety, submitted by organizations and businesses, or by individuals identifying themselves as representatives of organizations or businesses. For the Army to consider withholding your personally identifiable information from disclosure, you must identify any information contained in your comments that, if released, would constitute a clearly unwarranted invasion of your personal privacy. You must also briefly describe any possible harmful consequences of the disclosure of information. Even if the Army withholds your information in the context of this notice, your comment is subject to the Freedom of Information Act (FOIA). If your comment is requested under FOIA, the Army will withhold your information only if it determines that one of FOIA's exemptions to disclosure applies. Such a determination will be made in accordance with the Army's FOIA regulations and applicable law.

Comments can be submitted in any of the following ways:

• In written form by U.S. Postal Service or other delivery service: Send your comments and information to the following address: Natick Soldier System Center, Product Manager Force Sustainment System, 15 General Greene Avenue, Natick, MA 01760-5052, Attn: Ryan Bulger—Draft PEA Comments.

• Through email: Send your comments to Ryan Bulger at ryan.j.bulger2.civ@army.mil.

To ensure the Army has sufficient time to consider public input, written comments must be submitted on the website or mailed to the addresses listed no later than 30 Days After Publication in Federal Register.

James W. Satterwhite Jr.,
Army Federal Register Liaison Officer.

[FR Doc. 2024-29576 Filed 12-13-24; 8:45 am]

BILLING CODE 3710-CC-P